DEPARTMENT OF TRANSPORTATION

National Highway Traffic Safety Administration

49 CFR Part 571

[Docket No. NHTSA-2007-28322]

Federal Motor Vehicle Safety Standards; Lamps, Reflective Devices, and Associated Equipment

AGENCY: National Highway Traffic Safety Administration (NHTSA), Department of Transportation (DOT).

ACTION: Denying, in part, petitions for reconsideration.

SUMMARY: This document denies, in part, the petitions for reconsideration of the December 4, 2007, final rule reorganizing Federal Motor Vehicle Safety Standard (FMVSS) No. 108 (49 CFR 571.108). The petitions are denied only as they relate to subpart S6.6.3 (License Plate Holder) of the final rule.

FOR FURTHER INFORMATION CONTACT: For technical issues: Markus Price, Office of Crash Avoidance Standards (NVS-121), NHTSA, 1200 New Jersey Avenue, SE., West Building, Washington, DC 20590 (Telephone: (202) 366-0098) (Fax: (202) 366-7002).

For legal issues: Jesse Chang, Office of the Chief Counsel (NCC-112), NHTSA, 1200 New Jersey Avenue, SE., West Building, Washington, DC 20590 (Telephone: (202) 366-2992) (Fax: (202) 366-3820).

SUPPLEMENTARY INFORMATION:

Background

On December 30, 2005, the agency published in the Federal Register a notice of proposed rulemaking concerning 49 CFR 571.108 (Federal Motor Vehicle Safety Standard No. 108).¹ The agency stated that the goal of the proposal was to “amend the standard by reorganizing the regulatory text so that it provides a more straight-forward and logical presentation of the applicable regulatory requirements.” After the publication of a final rule on December 4, 2007,² adopting the proposal with revisions, the agency received petitions for reconsideration from Harley-Davidson Motor Company (January 18, 2008) and Ford Motor Company (January 18, 2008) asking the agency to reconsider the license plate holder requirements in subpart S6.6.3. A submission by the Motorcycle Industry Council (MIC) on March 19, 2009 also requested a similar change to S6.6.3. However, the MIC submission was not timely for the purposes of reconsidering this final rule and has been considered as a petition for rulemaking per 49 CFR 553.35.

¹ 70 FR 77454 (December 30, 2005).

² 72 FR 68234 (December 4, 2007).

In subpart S6.6.3 of the December 4, 2007 final rule, the agency included provisions expressly requiring that manufacturers of motor vehicles design license plate holders so that the plane surface of a license plate in the holder would be within ± 15° of perpendicular to the plane surface on which the vehicle stands.

Paragraph S5.1.1 of the pre-reorganized version of FMVSS No. 108 required that passenger vehicles and motorcycles be equipped with the “lamps, reflective devices, and associated equipment” listed in Table III of Standard 108. Table III listed lamps such turn signal lamps, reflectors such as reflex reflectors, and associated equipment such as turn signal operating units. Further, S5.1.1 required that the equipment listed in Table III conform to the corresponding SAE Standards listed in that table. One of the listed items of equipment was “license plate lamps.” Table III required “license plate lamps” to be designed to conform to SAE Standard J587 (October 1981). Among other requirements, SAE Standard J587 states in paragraph 6.1 that “the angle between the plane of the license plate and the plane on which the vehicle stands will be 90 ± 15 deg.”

Petitioners request that the agency reconsider subpart S6.6.3 on a number of grounds. First, petitioners contend that license plate holders are not lamps, reflective devices, or associated equipment listed in Table III and thus were never regulated under S5.1.1 of the pre-reorganized version of FMVSS No. 108. Therefore, petitioners believe that as a result of including S6.6.3 in the reorganization of FMVSS No. 108, the agency was imposing a new requirement and contravening its statement in the December 4, 2007 final rule that the “final rule does not impose any new substantive requirements on manufacturers.” In addition, petitioners assert that the license plate mounting provisions of SAE Standard J587 are intended to serve the purpose of ensuring an objective means of measuring photometric performance, but not intended to be a requirement. Finally, petitioners request that should the agency consider license plate holders to be regulated, the agency should harmonize the license plate holder requirements with the most recent revision of SAE Standard J587 and the requirements in European Union.³

³ The 1997 revision of SAE Standard J587 permits license plates mounted at less than 1.2 meters above the ground to be angled upwards at 30 degrees and maintained the requirement for plates to be angled downward at no more than 15 degrees.

In 1995, the agency stated that FMVSS No. 108 “incorporated SAE J587 in its entirety, and there is no exclusion of paragraph 6.1.” The agency made this statement in an interpretation letter addressed to Volkswagen of America, Inc.⁴

⁴ Available at http://isearch.nhtsa.gov/files/0788.html.

Notwithstanding that interpretation, NHTSA takes note that there has been significant confusion among the relevant stakeholders as to whether or not the mounting provisions of SAE Standard J587 were incorporated into FMVSS No. 108 via Table III as referenced through S5.1.1. On the one hand, the Motorcycle Industry Council (MIC) petitioned this agency for rulemaking in March of 2005 (before the December 30, 2005 NPRM in this rulemaking) requesting that the agency update the incorporated SAE Standard J587 to allow for a 30 degree upward angle mounting position for license plates. The March 2005 petition seems to indicate that MIC believed that the license plate mounting provisions of SAE Standard J587 were incorporated into FMVSS No. 108 via S5.1.1 and Table III. On the other hand, the Alliance of Automobile Manufacturers commented on March 30, 2006 to the 2005 NPRM and disputed the view that those provisions were ever incorporated into FMVSS No. 108.

Conclusion

Given the confusion over whether or not SAE Standard J587's provisions on license plate holders were incorporated into the prior version of FMVSS No. 108 and given the petition to initiate rulemaking premised on their incorporation and requesting their relaxation, the agency has decided to resolve this matter through rulemaking. Thus, through this document, the agency denies the aforementioned petitions for reconsideration as they relate to S6.6.3 (License Plate Holder) of the December 4, 2007 final rule. However, the agency is granting the petition from MIC requesting the agency to initiate rulemaking to examine the issue of license plate holders and their mounting requirements ⁵ in a separate document published in today's Federal Register. Further, due to the confusion and special circumstances surrounding this rule, the agency announced in the aforementioned document in today's Federal Register that it will not enforce the 15 degree license plate holder mounting requirement during the pendency of rulemaking on the issue of that requirement.

⁵ Motorcycle Industry Council Petition for Rulemaking, March 14, 2005 (Docket No. NHTSA-2005-20286-0009)

The agency also notes that it is still considering the comments and requests relating to other issues in the petitions for reconsideration of the December 4, 2007 final rule and will respond to them in a separate document.

Issued on: April 21, 2011.
Christopher J. Bonanti,
Associate Administrator for Rulemaking.

[FR Doc. 2011-10030 Filed 4-25-11; 8:45 am]

BILLING CODE 4910-59-P